DEPARTMENT OF THE INTERIOR

Fish and Wildlife Service

50 CFR Part 17

Endangered and Threatened Wildlife and Plants; Petition To List the Polar Bear as Threatened

AGENCY: Fish and Wildlife Service, Interior.

ACTION: Status review; reopening of public comment period.

SUMMARY: We, the U.S. Fish and Wildlife Service (Service), announce the reopening of the public comment period on the status review of polar bears (Ursus maritimus) to determine if listing this species as threatened under the Endangered Species Act of 1973, as amended (Act), is warranted. This action will provide all interested parties with an additional opportunity to submit written comments for our status review of this species. Comments previously submitted need not be resubmitted as they have already been incorporated into the public record and will be fully considered in any final decision.

DATES: We will accept comments and information until 5 p.m. on June 16, 2006. Any comments received after the closing date may not be considered in the final decision on the status review of this species.

ADDRESSES: If you wish to comment, you may submit your comments and/or information concerning this species and the status review by any one of the following methods:

1. You may submit written comments and information to the Supervisor, U.S. Fish and Wildlife Service, Marine Mammals Management Office, 1011 East Tudor Road, Anchorage, Alaska 99503.

2. You may hand-deliver written comments to our Marine Mammals Management Office at the address given above.

3. You may send your comments by electronic mail (e-mail) directly to the Service at AK_Polarbear@fws.gov, or to the Federal eRulemaking Portal at http://www.regulations.gov. For more information on submitting e-mail comments, see the Public Comments Solicited section below.

FOR FURTHER INFORMATION CONTACT: Scott Schliebe (see ADDRESSES), telephone, 907-786-3800; facsimile, 907-786-3816.

SUPPLEMENTARY INFORMATION:

Public Comments Solicited

We intend that any final action resulting from this status review will be as accurate and as effective as possible. Therefore, we solicit comments or suggestions from the public, concerned governmental agencies, the scientific community, industry, or any other interested party. We specifically seek information on the status of the polar bear throughout its range, including:

(1) Information on taxonomy, distribution, habitat selection (especially denning habitat), food habits, population density and trends, habitat trends, and effects of management on polar bears;

(2) Information on the effects of climate change and sea ice change on the distribution and abundance of polar bears and their principal prey over the short and long term;

(3) Information on the effects of other potential threat factors, including oil and gas development, contaminants, hunting, poaching, and changes of the distribution and abundance of polar bears and their principal prey over the short and long term;

(4) Information on management programs for polar bear conservation, including mitigation measures related to oil and gas exploration and development, hunting conservation programs, anti-poaching programs, and any other private, tribal, or governmental conservation programs that benefit polar bears; and

(5) Information relevant to whether any populations of the species may qualify as distinct population segments.

We will base our finding on a review of the best scientific and commercial information available, including all information received during the public comment period.

When e-mailing your comments, your submission must include “Attn: Polar Bear” in the subject line of your message, and you must not use special characters or any form of encryption. Electronic attachments in standard formats (such as .pdf or .doc) are acceptable, but please name the software necessary to open any attachments in formats other than those given above. Also, please include your name and return address in your e-mail message. If you do not receive a confirmation from the system that we have received your e-mail message, please submit your comments in writing using one of the alternate methods described in the ADDRESSES section. In the event that our internet connection is not functional, please submit your comments by one of the alternate methods mentioned in the ADDRESSES section.

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment, but you should be aware that the Service may be required to disclose your name and address pursuant to the Freedom of Information Act. However, we will not consider anonymous comments. We will make all submissions from organizations or businesses, and from individuals identifying themselves as representatives or officials of organizations or businesses, available for public inspection in their entirety.

All comments and materials received will be available for public inspection, by appointment, during normal business hours at our Marine Mammals Management Office in Anchorage, Alaska (see ADDRESSES).

Background

On February 9, 2006, we published a notice of 90-day petition finding and initiation of status review in the Federal Register (71 FR 6745) to determine if listing the polar bear under the Act is warranted. The initial public comment period to provide information for this review was open for 60 days, ending April 10, 2006.

We are reopening the public comment period for 30 days in response to requests we received from the public regarding their intent to provide the Service with additional information, including information from other polar bear range states (e.g., Canada and Russia) on the worldwide status of polar bears and to ensure that all interested parties have an opportunity to submit comment and information to us concerning the status of polar bears.

Authority

The authority for this action is the Endangered Species Act of 1973, as amended (16 U.S.C. 1531 et seq.).

Dated: May 8, 2006.
H. Dale Hall,
Director, U.S. Fish and Wildlife Service.

[FR Doc. E6-7448 Filed 5-16-06; 8:45 am]

BILLING CODE 4310-55-P